DEPARTMENT OF LABOR

Mine Safety and Health Administration

Petitions for Modification

The following parties have filed petitions to modify the application of existing safety standards under section 101(c) of the Federal Mine Safety and Health Act of 1977.

1. D & F Deep Mine Buck Drift

[Docket No. M-2002-001-C]

D & F Deep Mine Buck Drift, RD #1, Box 33A, Klingerstown, Pennsylvania 17941 has filed a petition to modify the application of 30 CFR 75.1002-1 (Location of other electric equipment; requirements for permissibility) to its Buck Drift Mine (I.D. No. 36-07456) located in Schuylkill County, Pennsylvania. The petitioner requests a modification of the existing standard to permit the use of non-permissible electric equipment within 150 feet of the pillar line. The petitioner states that the non-permissible equipment would include drags and battery locomotives due in part to the method of mining used in pitching anthracite mines and the alternative evaluation of the mine air quality for methane on an hourly basis during operation. The petitioner further states that one gas test result would be recorded in the on-shift examination record and equipment operation will be suspended when methane concentration at the equipment reaches 0.5 percent CH4, either during operation or when found during a pre-shift examination. The petitioner asserts that the proposed alternative method would provide at least the same measure of protection as the existing standard.

2. Canyon Fuel Company, LLC

[Docket No. M-2002-002-C]

Canyon Fuel Company, LLC, P.O. Box 1029, Wellington, Utah 84542 has filed a petition to modify the application of 30 CFR 75.1002 (Location of trolley wires, trolley feeder wires, high-voltage cables and transformers) to its Dugout Canyon Mine (I.D. No. 42-01890) located in Carbon County, Utah. The petitioner requests a modification of the existing standard to permit the use of a nominal voltage of longwall power circuits not to exceed 4,160 volts to supply power to permissible longwall mining equipment. The petitioner has listed specific terms and conditions in this petition that would be followed when implementing the proposed alternative method. The petitioner states that its present longwall voltage is 2,400-volts, but due to increased horsepower necessary to operate the longwall, the operating voltage must be increased. The petitioner asserts that a diminished safety factor exists as the short circuit interrupting rating limits of the available 2,400-volt breaker are approached and that the proposed alternative method would provide at least the same measure of protection as the existing standard.

3. Knott County Mining Company

[Docket No. M-2002-003-C]

Knott County Mining Company, P.O. Box 2805, Pikeville, Kentucky 41502 has filed a petition to modify the application of 30 CFR 75.900 (Low- and medium-voltage circuits serving three-phase alternating current equipment; circuit breakers) to its Mallet Branch Mine (I.D. No. 15-18393) located in Knott County, Kentucky. The petitioner proposes to use contactors to obtain undervoltage protection instead of using circuit breakers. The petitioner states that all qualified persons who perform work on the equipment and circuits will receive training in safe maintenance procedures as well as the terms and conditions of the proposed decision and order. The training will occur before implementing the proposed alternative method. The petitioner asserts that the proposed alternative method would provide at least the same measure of protection as the existing standard.

4. Perry County Coal Company

[Docket No. M-2002-004-C]

Perry County Coal Company, 1845 South Hwy, 15, P.O. Box 5001, Hazard, Kentucky 41702 has filed a petition to modify the application of 30 CFR 75.364(b)(2) (Weekly examination) to its HZ4-1 Mine (I.D. No. 15-02085) located in Perry County, Kentucky. The petitioner proposes to establish evaluation check points to measure the quality and quantity of air in certain areas of the return air course. This is necessary due to hazardous roof and rib conditions impeding passage. The petitioner states that the check points will be established at locations that will allow effective evaluation of ventilation in the affected areas and will be examined by a certified person. These measuring stations will be maintained in safe conditions at all times. Further, conditions at the stations will be recorded in a book or on a date board located at each measuring station with the date, time and results of the measurements. The petitioner asserts that the proposed alternative method would provide at least the same measure of protection as the existing standard.

5. Cannelton Industries, Inc.

[Docket No. M-2002-005-C]

Cannelton Industries, Inc., P.O. Box 88, Mammoth, West Virginia 25132 has filed a petition to modify the application of 30 CFR 75.503 (Permissible electric face equipment; maintenance) and 30 CFR 18.41(f) (Plug and receptacle-type connectors) to its Shadrick Mine (I.D. No. 46-08159) and its Mine #130 (I.D. No. 46-06051) both located in Kanawha County, West Virginia. The petitioner proposes to use a spring-loaded device on battery plug connectors on mobile battery-powered machines in lieu of a padlock to prevent the plug connector from accidentally disengaging while under load. The petitioner states that a warning tag that states “Do Not Disengage Under Load”, will be installed on all battery plug connectors and that instructions on the safe practices and provisions for complying with its proposed alternative method will be provided to all persons who operate or maintain the battery-powered machines. The petitioner asserts that the existing standard would result in a diminution of safety to the miners.

6. Point Mining, Inc.

[Docket No. M-2002-006-C]

Point Mining, Inc., 197 Branch Road, Belle, West Virginia 25015 has filed a petition to modify the application of 30 CFR 75.503 (Permissible electric face equipment; maintenance) and 30 CFR 18.41(f) (Plug and receptacle-type connectors) to its Point Mining Number 4 Mine (I.D. No. 46-08437) located in Kanawha County, West Virginia. The petitioner proposes to use a threaded ring and a spring-loaded device on battery plug connectors on mobile battery-powered machines instead of a padlock to prevent the plug connector from accidentally disengaging while under load, and provide instructions to all persons who operate or maintain the battery-powered machines on the safe practices and provisions for complying with its proposed alternative method. The petitioner asserts that the existing standard would result in a diminution of safety to the miners.

7. OCI Wyoming, L.P.

[Docket No. M-2002-001-M]

OCI Wyoming, L.P., P.O. Box 513, Green River, Wyoming 82935 has filed a petition to modify the application of 30 CFR 57.22305 (Approved equipment (III mines)) to its Big Island Mine and Refinery (I.D. No. 48-00154) located in Sweetwater County, Wyoming. The petitioner proposes to use a 12 to 18 volt battery powered cordless drill manufactured by Black & Decker, DeWalt, Makita, Milwaukee or Hilti, or use similar battery powered drills for an indefinite period of time, in or beyond the last open crosscut. The drills would be used to drill spad holes for surveying and to install rock mechanics stations. The petitioner asserts that the alternative method of using a cordless drill would not result in a diminution of safety to the miners and that the proposed alternative method would provide at least the same measure of protection as the existing standard.

8. OCI Wyoming, L.P.

[Docket No. M-2002-002-M]

OCI Wyoming, L.P., P.O. Box 513, Green River, Wyoming 82935 has filed a petition to modify the application of 30 CFR 57.22305 (Approved equipment (III mines)) to its Big Island Mine and Refinery (I.D. No. 48-00154) located in Sweetwater County, Wyoming. The petitioner proposes to use a Topcon GTS Series Electronic Total Station surveying instrument or similar surveying instrument in or beyond the last open crosscut to traverse for mine expansion and obtain elevations in support of on-going geologic and rock mechanics modeling. The petitioner states that the Topcon GTS is mounted with an intrinsically sealed 9.6 volt battery and that the use of the Topcon GTS would eliminate labor intensive ventilation modifications and allow for more accurate surveying of abandoned panels. The petitioner asserts that the alternative method of using the Topcon would not result in a diminution of safety to the miners and that the proposed alternative method would provide at least the same measure of protection as the existing standard.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before April 15, 2002. Copies of these petitions are available for inspection at that address.

Dated at Arlington, Virginia this 12th day of March 2002.
Marvin W. Nichols, Jr.,
Director, Office of Standards, Regulations, and Variances.

[FR Doc. 02-6236 Filed 3-14-02; 8:45 am]

BILLING CODE 4510-43-P